FEDERAL COMMUNICATIONS COMMISSION

Notice of Public Information Collection(s) Being Submitted to the Office of Management and Budget, Comment Requested

August 28, 2007.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 5, 2007. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, Room 1-B441, 445 12th Street, SW., Washington, DC 20554 or an e-mail to PRA@fcc.gov. If you would like to obtain or view a copy of this information collection after the 60 day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0798.

Title: FCC Application for Radio Service Authorization: WTB and PSHS.

Form No.: FCC Form 601.

Type of Review: Revision of a currently approved collection.

Respondents: Individuals or households, business or other for-profit, not-for-profit institutions, and state, local or tribal government.

Number of Respondents: 252,720 respondents; 252,720 responses.

Estimated Time per Response: 1.25 hours.

Frequency of Response: On occasion reporting requirement, third party disclosure requirement, recordkeeping requirement and every 10 year reporting requirement.

Obligation To Respond: Required to obtain or retain benefits.

Total Annual Burden: 221,130 hours.

Total Annual Cost: $50,584,000.

Privacy Act Impact Assessment: Yes.

Nature and Extent of Confidentiality: In general there is no need for confidentiality. On a case-by-case basis, the Commission may be required to withhold from disclosure certain information about the location, character, or ownership of a historic property, including traditional religious sites.

Needs and Uses: The Commission will submit this revision to the OMB after this 60 day comment period to obtain the full three-year clearance from them.

The FCC Form 601 is a consolidated, multi-part application form, or “long-form”, that is used for general market-based licensing and site-by-site licensing for wireless telecommunications and public safety services filed through the Commission's Universal Licensing System (ULS). FCC Form 601 is composed of a main form that contains the administrative information and a series of schedules used for filing technical and other information. Respondents are encouraged to submit FCC Form 601 electronically and are required to do so when submitting FCC Form 601 to apply for an authorization for which the applicant was the winning bidder in a spectrum auction.

The data collected on the FCC Form 601 include the FCC Registration Number (FRN), which serves as a “common link” for all filings an entity has with the FCC. The Debt Collection Improvement Act of 1996 requires that those entities filing with the Commission to use an FRN. FCC Form 601 is also being used for auctionable services as they are implemented; to apply for a new authorization; or to amend a pending application for an authorization to operate a license for wireless radio services. This includes Public Mobile Services, Personal Communications Services, General Wireless Communications Services, Private Land Mobile Radio Services, Broadcast Auxiliary Services, Fixed Microwave Services, Instructional Television Fixed Service (ITFS) and the Multipoint Distribution Service (MDS), Maritime Services (excluding ships), and Aviation Services (excluding aircraft). It may also be used to modify or renew an existing license, cancel a license, withdraw a pending application, obtain a duplicate license, submit required notifications, request an extension of time to satisfy construction requirements, or request an administrative update to an existing license (such as a mailing address change), request a Special Temporary Authorization (STA), or a Developmental License. The Commission is now seeking OMB approval because we are increasing the number of respondents by 2,200 and the annual cost burden; and add new radio service codes and instructional changes to Schedules B and D due to Auction 73 of the 700 MHz band licenses (see Second Report and Order in FCC 07-132, WT Docket No. 06-150) scheduled for January 16, 2008.

OMB Control Number: 3060-0799.

Title: FCC Ownership Disclosure Information for the Wireless Telecommunications Services.

Form No.: FCC Form 602.

Type of Review: Revision of a currently approved collection.

Respondents: Business or other for-profit, not-for-profit institutions, and state, local or tribal government.

Number of Respondents: 550 respondents; 5,216 responses.

Estimated Time Per Response: 1.50 hours.

Frequency of Response: On occasion reporting requirement and third party disclosure requirement.

Obligation to Respond: Required to obtain or retain benefits.

Total Annual Burden: 5,216 hours.

Total Annual Cost: $508,200.

Privacy Act Impact Assessment: N/A.

Nature and Extent of Confidentiality: In general, there is no need for confidentiality. On a case by case basis, the Commission may be required to withhold from disclosure certain information about the location, character, or ownership of a historic property, including traditional religious sites.

Needs and Uses: The Commission will submit this revision to the OMB after this 60-day comment period to obtain the full three-year clearance from them.

The purpose of the FCC Form 602 is to obtain the identity of the filer and to elicit information required by 47 CFR 1.2112 of the Commission's rules regarding: (1) Persons or entities holding a 10 percent or greater direct or indirect ownership interest or any general partners in a general partnership holding a direct or indirect ownership interest in the applicant (“Disclosable Interest Holders”); and (2) all FCC-regulated entities in which the filer or any of its Disclosable Interest Holders owns a 10 percent or greater interest.

The data collected on the FCC Form 602 includes the FCC Registration Number (FRN), which serves as a “common link” for all filings an entity has with the FCC. The Debt Collection Improvement Act of 1996 requires that entities filing with the Commission use a FRN. The FCC Form 602 was designed for, and must be filed electronically in the Universal Licensing System (ULS) by all licensees that hold licenses in auctionable services.

The Commission is now seeking OMB approval because we are increasing the number of respondents by 50 and the annual cost burden due to Auction 73 of the 700 MHz band licenses (see Second Report and Order in FCC 07-132, WT Docket No. 06-150) scheduled for January 16, 2008.

OMB Control Number: 3060-0800.

Title: FCC Application for Assignments of Authorization and Transfers of Control; WTB and PSHS.

Form No.: FCC Form 603.

Type of Review: Revision of a currently approved collection.

Respondents: Individuals or households, business or other for-profit, not-for-profit institutions, and state, local or tribal government.

Number of Respondents: 32,751 respondents; 32,751 responses.

Estimated Time Per Response: 1.75 hours.

Frequency of Response: On occasion reporting requirement, recordkeeping requirement.

Obligation to Respond: Mandatory.

Total Annual Burden: 36,846 hours.

Total Annual Cost: $3,111,295.

Privacy Act Impact Assessment: Yes.

Nature and Extent of Confidentiality: In general, there is no need for confidentiality. On a case by case basis, the Commission may be required to withhold from disclosure certain information about the location, character, or ownership of a historic property, including traditional religious sites.

Needs and Uses: The Commission will submit this revision to the OMB after this 60-day comment period to obtain the full three-year clearance from them.

FCC Form 603 is a multi-purpose form used to apply for approval of assignment or transfer of control of licenses in the wireless services. The data collected on this form is used by the FCC to determine whether the public interest would be served by approval of the requested assignment or transfer. This form is also used to notify the Commission of consummated assignments and transfers of wireless and/or public safety licenses that have previously been consented to by the Commission or for which notification but not prior consent is required. This form is used by applicants/licensees in the Public Mobile Services, Personal Communications Services, General Wireless Communications Services, Private Land Mobile Radio Services, Broadcast Auxiliary Services, Broadband Radio Services, Educational Radio Services, Fixed Microwave Services, Maritime Services (excluding ships), and Aviation Services (excluding aircraft).

The purpose of this form is to obtain information sufficient to identify the parties to the proposed assignment or transfer, establish the parties basic eligibility and qualifications, classify the filing, and determine the nature of the proposed service. Various technical schedules are required along with the main form applicable to Auctioned Services, Partitioning and Disaggregation, Undefined Geographical Area Partitioning, Notification of Consummation or Request for Extension of Time for Consummation.

The Commission is now seeking OMB approval because we are increasing the number of respondents by 200 and the annual cost burden and add an additional option for coverage requirements on Schedule B due to Auction 73 of the 700 MHz band licenses (see Second Report and Order in FCC 07-132, WT Docket No. 06-150) scheduled for January 16, 2008.

OMB Control Number: 3060-1058.

Title: FCC Application or Notification for Spectrum Leasing Arrangement: WTB and PSHS.

Form No.: FCC Form 608.

Type of Review: Revision of a currently approved collection.

Respondents: Business or other for-profit, not-for-profit institutions, and state, local or tribal government.

Number of Respondents: 1,623 respondents; 1,623 responses.

Estimated Time Per Response: 5 hours.

Frequency of Response: On occasion reporting requirement and recordkeeping requirement.

Obligation to Respond: Required to obtain or retain benefits.

Total Annual Burden: 8,115 hours.

Total Annual Cost: $1,334,106.

Privacy Act Impact Assessment: N/A.

Nature and Extent of Confidentiality: In general there is no need for confidentiality. On a case by case basis, the Commission may be required to withhold from disclosure certain information about the location, character, or ownership of a historic property, including traditional religious sites.

Needs and Uses: The Commission will submit this revision to the OMB after this 60-day comment period to obtain the full three-year clearance from them. FCC Form 608 is a multi-purpose form used to provide notification or request approval for any spectrum leasing arrangement (‘Leases’) entered into between an existing licensee (‘Licensee’) in certain wireless services and a spectrum lessee (‘Lessee’). This form is also required to notify or request approval for any spectrum subleasing arrangement (‘Sublease’). The form is also used to provide notification for any Private Commons Arrangement entered into between a Licensee, Lessee, or Sublessee and a class of third-party users (as defined in 47 CFR 1.9080 of the Commission's Rules.) The data collected on the form is used by the FCC to determine whether the public interest would be served by the Lease or Sublease. The Commission is now seeking OMB approval because we are increasing the number of respondents by 30 as a result of the Second Report and Order in FCC 07-132, WT Docket No. 06-150.

OMB Control Number: 3060-1092.

Title: Interim Procedures for Filing Applications Seeking Approval for Designated Entity Reportable Eligibility Events and Annual Reports.

Form Nos.: FCC Forms 609-T and 611-T.

Type of Review: Revision of a currently approved collection.

Respondents: Business or other for-profit, not-for-profit institutions, and state, local or tribal government.

Number of Respondents: 1,100 respondents; 2,750 responses.

Estimated Time Per Response: .50-6 hours.

Frequency of Response: On occasion and annual reporting requirements.

Obligation to Respond: Required to obtain or retain benefits.

Total Annual Burden: 7,288 hours.

Total Annual Cost: $1,494,625.

Privacy Act Impact Assessment: N/A.

Nature and Extent of Confidentiality: In general there is no need for confidentiality. On a case by case basis, the Commission may be required to withhold from disclosure certain information about the location, character, or ownership of a historic property, including traditional religious sites.

Needs and Uses: The Commission will submit this revision to the OMB after this 60-day comment period to obtain the full three-year clearance from them.

FCC Form 609-T is used by Designated Entities (DEs) to request prior Commission approval pursuant to 47 CFR 1.2114 of the Commission's Rules for any reportable eligibility event. The FCC Form 611-T is used by Designated Entity licensees to file an annual report, pursuant to 47 CFR 1.2110(n) of the Commission's Rules, related to eligibility for designated entity benefits. The data collected on the form is used by the FCC to determine whether the public interest would be served by the approval of the reportable eligibility event.

The Commission is now seeking OMB approval because we are increasing the number of respondents by 100 as a result of the Second Report and Order in FCC 07-132, WT Docket No. 06-150.

Federal Communications Commission.
William F. Caton,
Deputy Secretary.

[FR Doc. E7-17503 Filed 9-4-07; 8:45 am]

BILLING CODE 6712-01-P